NUCLEAR REGULATORY COMMISSION

[Docket No. 52-007-ESP; ASLBP No. 04-821-01-ESP]

In the Matter of Exelon Generation Company, LLC (Early Site Permit for Clinton ESP Site); Before Administrative Judges: Dr. Paul B. Abramson, Chairman; Dr. Anthony J. Baratta; Dr. David L. Hetrick; Notice (Notice of Hearing and of Opportunity to Make Oral or Written Limited Appearance Statements)

October 2, 2006.

This Atomic Safety and Licensing Board hereby gives notice that it will convene an evidentiary session to receive testimony and exhibits in the “mandatory hearing” portion of this proceeding regarding the September 25, 2003 Application of the Exelon Generation Company, LLC, (Exelon) for a 10 CFR part 52 early site permit (ESP), seeking approval of the site of the existing Clinton nuclear power station in DeWitt County, Illinois, for the possible construction of one or more new nuclear reactors.¹ This mandatory hearing will concern safety and environmental matters relating to the proposed issuance of the requested ESP, as more fully described below.

¹ See 68 FR 69,426 (Dec. 12, 2003).

In addition, the Board gives notice that, in accordance with 10 CFR 2.315(a), it will entertain oral limited appearance statements from members of the public in connection with this proceeding.

A. Matters To Be Considered

As set forth by the Commission in the December 2003 “Notice of Hearing and Opportunity To Petition for Leave To Intervene Early Site Permit for the Clinton ESP Site” (68 FR at 69,426) and the applicable regulations in 10 CFR 52.21 the matters at issue in this proceeding are: (a) Whether issuance of an ESP will be inimical to the common defense and security or to the health and safety of the public (Safety Issue 1); (b) whether, taking into consideration the site criteria contained in 10 CFR part 100, a reactor or reactors having characteristics that fall within the parameters for the site, can be constructed and operated without undue risk to the public health and safety (Safety Issue 2); and (c) whether in accordance with the requirements of 10 CFR part 51, subpart A, the ESP should be issued as proposed. Additionally, in accord with the December 2003 notice: (d) whether the requirements of sections 102(2)(A), (C), and (E) of the National Environmental Policy Act of 1969 and 10 CFR part 51, subpart A, have been complied with in the proceeding; (e) the final balance among conflicting factors contained in the record of proceeding with a view to determining the appropriate action to be taken; and (f) after considering reasonable alternatives, whether a license should be issued, denied, or appropriately conditioned to protect environmental values.

B. Date, Time, and Location of Mandatory Hearing

The Board will conduct this mandatory hearing at the specified location and time:

1. Date: Tuesday, November 7, 2006, time: beginning at 9 a.m. c.s.t., location: Decatur Conference Center, 4191 W. U.S. Highway 36, Decatur, Illinois.

The hearing on these issues will continue day-to-day until concluded.

The public is advised that, in accordance with 10 CFR 2.390, portions of the hearing sessions may be closed to the public because the matters at issue may involve the discussion of protected information.

C. Date, Time, and Location of Oral Limited Appearance Statement Session

This session will be on the following date at the specified location and time:

1. Date: Wednesday, November 8, 2006, time: 6 to 10 p.m. c.s.t., location: Clinton Junior High School, 701 Illini Drive, Clinton, Illinois.

D. Participation Guidelines for Oral Limited Appearance Statements

Any person not a party, or a representative of a party, to the proceeding will be permitted to make an oral statement of not more than five minutes setting forth his or her position on matters of concern relating to this proceeding. Although these statements do not constitute testimony or evidence, they nonetheless may help the Board and/or the parties in their consideration of the issues in this proceeding.

Oral limited appearance statements will be entertained during the hours specified above, or such lesser time as may be sufficient to accommodate the speakers who are present.² In this regard, if all scheduled and unscheduled speakers present have made a presentation, the Licensing Board will terminate the session before the ending time listed above.

² Any members of the public who plan to attend either the mandatory hearing or the limited appearance session are advised that security measures may be employed at the entrance to the hearing facility, including searches of hand-carried items such as briefcases or backpacks. Participants are expected to respect and preserve the dignity of this proceeding; therefore, during the limited appearance session, static signs no larger than 18″ by 18″ will be permitted, but may not be attached to sticks, held up, waved, or moved about in the rooms.

Although the Board expects that the time allotted for each statement will be no more than five minutes, it may be further limited depending on the number of written requests to make an oral statement that are submitted in accordance with section E below and/or the number of persons present at the designated time indicate that it is necessary to reduce each person's time to enable all those desiring to speak to do so.

E. Priority to those who Submitted a Prior Request

Persons wishing to make an oral statement who have submitted a timely written request to do so will be given priority over those who have not filed such a request. To be considered timely, a written request to make an oral statement must either be mailed, faxed, or sent by e-mail so as to be received by 5 p.m. eastern standard time on October 30, 2006. Written requests to make an oral statement should be submitted to: Mail: Office of the Secretary, Rulemakings and Adjudications Staff, U.S. Nuclear Regulatory Commission, Washington, DC 20555-0001. Fax: (301) 415-1101 (verification (301) 415-1966). E-mail: hearingdocket@nrc.gov.

In addition, using the same method of service, a copy of the written request to make an oral statement should be sent to the Chairman of this Licensing Board as follows: Mail: Administrative Judge Paul B. Abramson, Atomic Safety and Licensing Board Panel, Mail Stop T-3 F23, U.S. Nuclear Regulatory Commission, Washington, DC 20555-0001. Fax: (301) 415-5599 (verification (301) 415-6094). E-mail: KSV@nrc.gov and JJL5@nrc.gov.

F. Submitted Written Limited Appearance Statements

In addition to or in lieu of an oral limited appearance statement, a written limited appearance statement may be submitted to the Board regarding this proceeding at any time. Such statements should be sent to the Office of the Secretary using the methods prescribed above, with a copy to the Licensing Board Chairman.

G. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (the Public Electronic Reading Room). Persons who do not have access to ADAMS or who encounter problems in accessing the documents located in ADAMS should contact the NRC PDR reference staff by telephone at (800) 397-4209 or (301) 415-4737, or by e-mail to pdr@nrc.gov.

H. Scheduling Information Updates

Any updated/revised scheduling information regarding the evidentiary hearing and limited appearance sessions can be found on the NRC Web site at http://www.nrc.gov/public-involve/public-meetings/index.cfm or by calling (800) 368-5642, extension 5036, or (301) 415-5036.

For the Atomic Safety and Licensing Board. ³
³ Copies of this notice were sent this date by Internet e-mail transmission to counsel for (1) applicant Exelon; (2) the NRC Staff.
Dated: October 2, 2006.
Paul B. Abramson,
Administrative Judge, Rockville, Maryland.

[FR Doc. E6-16555 Filed 10-5-06; 8:45 am]

BILLING CODE 7590-01-P